DEPARTMENT OF HOUSING AND URBAN DEVELOPMENT

[Docket No. FR-5610-N-06]

Notice of Proposed Information Collection for Public Comment; Office of Native American Programs (ONAP) Training and Technical Assistance Notice of Funding Availability (NOFA)

AGENCY: Office of the Assistant Secretary for Public and Indian Housing, HUD.

ACTION: Notice of proposed information collection.

SUMMARY: The proposed information collection requirement described below will be submitted to the Office of Management and Budget (OMB) for review, as required by the Paperwork Reduction Act. The Department is soliciting public comments on the subject proposal. The data required by Office of Native American Programs Training and Technical Assistance NOFA includes pre-award application materials required to be submitted, and post award requirements under the cooperative agreement including technical budgets and reports on financial and task progress. The data identifies needs, outputs and outcomes of the training and technical assistance.

DATES: Comments Due Date: May 21, 2012.

ADDRESSES: Interested persons are invited to submit comments regarding this information collection proposal. Comments should refer to the proposal by name/or OMB Control number and should be sent to: Colette Pollard, Departmental Reports Management Officer, QDAM, Department of Housing and Urban Development, 451 7th Street SW., Room 4160, Washington, DC 20410-5000; telephone 202.402.3400, (this is not a toll-free number) or email Ms. Pollard at Colette.Pollard@hud.gov for a copy of the proposed forms, or other available information. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: ONAP Training and Technical Assistance Information Collection.

OMB Control Number: Pending.

Description of the need for the information and proposed use:

The Department of Housing and Urban Development Appropriations Act, as approved on November 18, 2011 (Pub. L. 112-55, 125 Stat. 552) authorizes HUD to award training and technical assistance contracts on a competitive basis. HUD intends to competitively award training and technical assistance contracts to national and regional nonprofit and for-profit entities with demonstrated experience and expertise in the Native American Housing Assistance and Self-Determination Act of 1996 (NAHASDA).

The purpose of the ONAP Training and Technical Assistance program is to improve the quality and quantity of low-income housing in Native American, Alaska Native, and native Hawaiian communities, as funded by Indian Housing Block Grants (IHBG) and Native Hawaiian Housing Block Grants (NHHBG) and authorized by NAHASDA. The regulations for the IHBG program are at 24 CFR part 1000, and for the NHHBG program at 24 CFR part 1006.

Successful applicants will have demonstrated training and technical assistance experience and expertise in NAHASDA; low-income housing development, inspection, maintenance, modernization, and operation; admissions and occupancy; procurement; financial and fiscal management; program income; governance and organizational development; leveraged financing, including Low Income Housing Tax Credits; healthy home environments, including mold and air quality issues; homebuyer education; crime prevention; youth activities, including Boys and Girls Clubs; and other topics responsive to low-income housing issues in native communities. Training and technical assistance services will be provided onsite and remotely, on a one-on-one and classroom basis.

Respondents to the NOFA will be required to submit a single proposal regardless of the number of programs or areas of expertise for which they offer to provide training and technical assistance. Factors for award include Factor 1: Capacity and Experience, Factor 2: Soundness of Approach, Factor 3: Leveraging, and Factor 4: Achieving Results and Program Evaluation. Narratives addressing Factors 1-4 must be formatted so that the total number of pages submitted is equal to or no more than 25 single-sided pages. The one-page application summary, organizational chart, budget discussion, and required forms are not included in the 25 page limit. Required forms include HUD-2880 (Applicant/Recipient Disclosure Update), HUD-2993 (Acknowledgement of Application Receipt), HUD-96011 (HUD Facsimile Transmittal), SF-424 (Application for Federal Assistance), and SF-LLL (Disclosure of Lobbying Activities). Applicants must submit their applications electronically to Grants.Gov or request a waiver from HUD. HUD expects to receive 25 applications and select ten awardees to enter in 24-month cooperative agreements, with a 12-month option period.

Agency form numbers: HUD-2880, HUD-2993, HUD-96011.

Members of affected public: Nonprofit and for-profit entities.

Estimation of the total number of hours needed to prepare the information collection including number of respondents, frequency of response, and hours of response: The estimated number of applicants is 25, responding once a year, for a total reporting burden of 1,500 hours. The estimated number of awardees is 10, the frequency of response is four times per year; and the total reporting burden is estimated at 1,830 hours.

Status of the proposed information collection: New collection.

Authority: Section 3506 of the Paperwork Reduction Act of 1995, 44 U.S.C. chapter 35, as amended.

Dated: March 13, 2012.
Merrie Nichols-Dixon,
Deputy Director for Office of Policy, Programs, and Legislative Initiatives.

[FR Doc. 2012-6675 Filed 3-19-12; 8:45 am]

BILLING CODE 4210-67-P